DEPARTMENT OF ENERGY

Federal Energy Regulatory Commission

[Project No. 67—California; Project No. 120—California; Project No. 2085—California; Project No. 2175—California]

Southern California Edison; Notice of Designation of Certain Commission Personnel as Non-Decisional

April 25, 2005.

The following Commission staff has been assigned to help facilitate resolution of environmental and related issues associated with the development of a comprehensive settlement agreement for the Big Creek System Projects.

Office of Energy Projects; Michael Henry

The parties anticipate completing the comprehensive settlement agreement and filing an offer of settlement for four existing hydroelectric projects—Big Creek No. 2A, 8, and Eastwood (FERC No. 67); Big Creek No. 3 (FERC No. 120); Mammoth Pool (FERC No. 2085); and Big Creek No. 1 and 2 (FERC No. 2175). The Mammoth Pool Project application is due November 30, 2005, and the applications for the other three projects are due February 28, 2007. The “separated staff” will take no part in the Commission's review of the offer of settlement, or deliberations concerning the disposition of license application.

Different Commission “advisory staff” will be assigned to review the offer of settlement, the comprehensive settlement agreement, and process the license applications, including providing advice to the Commission with respect to the agreement and license applications. Separated staff and advisory staff are prohibited from communicating with one another concerning the settlement and license applications.

Magalie R. Salas,
Secretary.

[FR Doc. E5-2098 Filed 5-2-05; 8:45 am]

BILLING CODE 6717-01-P